DEPARTMENT OF DEFENSE

Office of the Secretary

Renewal of the Defense Intelligence Agency Advisory Board

AGENCY: Department of Defense.

ACTION: Notice.

SUMMARY: The Defense Intelligence Agency Advisory Board (DIA/AB) has been renewed in consonance with the public interest, and in accordance with the provisions of Public Law 92-463, the “Federal Advisory Committee Act.”

The DIA/AB will provide the Director, Defense Intelligence Agency (DIA) with expertise and advice on current and long-term operational and intelligence matters covering the total range of DIA's mission. The DIA/AB will address the top priorities for the DIA intelligence mission.

The Board will be composed of not more than 20 members and include officials of other government agencies or departments, senior officials from large and small corporations, private consultants, and senior members of the academic community.

FOR FURTHER INFORMATION CONTACT: Please contact Jane McGehee, Defense Intelligence Agency, telephone: 703-693-9567.

Dated: September 8, 2004.
L.M. Bynum,
Alternate OSD Federal Register Liaison Officer, Department of Defense.

[FR Doc. 04-20725 Filed 9-14-04; 8:45 am]

BILLING CODE 5001-06-M